DEPARTMENT OF DEFENSE

Office of the Secretary

[Transmittal No. 22-10]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-10 with attached Policy Justification and Sensitivity of Technology.

Dated: May 8, 2024.
Aaron T. Siegel,
Alternate OSD Federal Register Liaison Officer, Department of Defense.

BILLING CODE 6001-FR-P

BILLING CODE 6001-FR-C

Transmittal No. 22-10

Notice of Proposed Issuance of Letter of Offer Pursuant to Section 36(b)(1) of the Arms Export Control Act, as amended

(i) Prospective Purchaser: Government of the United Kingdom

(ii) Total Estimated Value:

Major Defense Equipment * | $400 million
Other | $300 million
TOTAL | $700 million

(iii) Description and Quantity or Quantities of Articles or Services under Consideration for Purchase:

Major Defense Equipment (MDE):

One (1) Ballistic Missile Defense Radar (BMDR)

Two (2) Command and Control Battle Management and Communications (C2BMC) User Nodes (with network capability required to connect to the C2BMC System to support radar operations)

Non-MDE:

Also included are design and construction of a combined radar-equipment shelter; encryption devices, secure communication equipment, and other required COMSEC equipment to support radar operations; spare and repair parts, support and testing equipment, publications and technical documentation, personnel training and training equipment, U.S. Government and contractor engineering, technical and logistics support services, and other related elements of logistical and program support.

(iv) Military Department: Missile Defense Agency (UK-I-ZAB)

(v) Prior Related Cases, if any: UK-I-ZAA

(vi) Sales Commission, Fee, etc., Paid, Offered, or Agreed to be Paid: None

(vii) Sensitivity of Technology Contained in the Defense Article or Defense Services Proposed to be Sold: See Attached Annex

(viii) Date Report Delivered to Congress: March 17, 2022

* As defined in Section 47(6) of the Arms Export Control Act.

POLICY JUSTIFICATION

United Kingdom—Ballistic Missile Defense Radar (BMDR) and Command and Control Battle Management and Communications (C2BMC)

The Government of the United Kingdom (UK) has requested to buy one (1) Ballistic Missile Defense Radar (BMDR); and two (2) Command and Control Battle Management and Communications (C2BMC) user nodes (with network capability required to connect to the C2BMC System to support radar operations). Also included are design and construction of a combined radar-equipment shelter; encryption devices, secure communication equipment, and other required COMSEC equipment to support radar operations; spare and repair parts, support and testing equipment, publications and technical documentation, personnel training and training equipment, U.S. Government and contractor engineering, technical and logistics support services, and other related elements of logistical and program support. The total estimated program cost is $700 million.

This proposed sale will support the foreign policy goals and national security objectives of the United States by improving the security of a NATO Ally that is a force for political stability and economic progress in Europe.

The proposed sale will improve UK's ability to meet current and future ballistic missile threats to the UK and NATO by improving the effectiveness of NATO BMD systems. The United Kingdom will have no difficulty absorbing the BMD Radar into its armed forces.

The proposed sale of this equipment and support will not alter the basic military balance in the region.

The principal contractor will be Lockheed Martin, Moorestown, NJ. There are no known offset agreements proposed in connection with this potential sale.

Implementation of this proposed sale may require the assignment of approximately 15 U.S. Government and up to 100 contractor representatives to the UK, at any given time, during the construction, installation, integration and testing of the BMDR and C2BMC capability.

There will be no adverse impact on U.S. defense readiness as a result of this proposed sale.

Transmittal No. 22-10

Notice of Proposed Issuance of Letter of Offer Pursuant to Section 36(b)(1) of the Arms Export Control Act

Annex

Item No. vii

(vii) Sensitivity of Technology:

1. The United Kingdom (UK) Ballistic Missile Defense Radar (BMDR) is a scaled version of the U.S. Long Range Discrimination Radar. It will provide continuous and precise tracking and discrimination of missile threats, persistent long-range midcourse discrimination, precision tracking and hit assessment. Discrimination is a critical capability of missile defense, which will provide data to distinguish lethal objects from debris and decoys around the lethal object. The UK will use the Command and Control, Battle Management, and Communications (C2BMC) system to integrate the UK BMDR. This will improve the effectiveness of North Atlantic Treaty Organization (NATO) missile defenses.

2. The highest level of classification of defense articles, components, and services included in this potential sale is SECRET.

3. If a technologically advanced adversary were to obtain knowledge of the hardware and software elements, the information could be used to develop countermeasures or equivalent systems, which might reduce system effectiveness or be used in the development of a system with similar or advanced capabilities.

4. A determination has been made that the United Kingdom can provide substantially the same degree of protection for the sensitive technology being released as the U.S. Government. This sale is necessary in furtherance of the U.S. foreign policy and national security objectives outlined in the Policy Justification.

5. All defense articles and services listed in this transmittal have been authorized for release and export to the Government of the United Kingdom.

[FR Doc. 2024-10470 Filed 5-13-24; 8:45 am]

BILLING CODE 6001-FR-P